SMALL BUSINESS ADMINISTRATION

National Small Business Development Center Advisory Board

Public Meeting

The U.S. Small Business Administration, Office of Small Business Development Centers, National Advisory Board will be hosting a public meeting via conference call to discuss such matters that may be presented by members, and the staff of the U.S. Small Business Administration, or interested others. The conference call will be held on Tuesday, February 21, 2006 at 1 p.m. Eastern Standard Time.

Anyone wishing to make an oral presentation to the Board must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. E6-241 Filed 1-11-06; 8:45 am]

BILLING CODE 8025-01-P